DEPARTMENT OF HEALTH AND HUMAN SERVICES

National Institutes of Health

Center for Scientific Review; Amended Notice of Meeting

Notice is hereby given of a change in the meeting of the Cancer Genetics Study Section, February 22, 2021, 09:30 a.m. to February 23, 2021, 05:00 p.m., National Institutes of Health, Rockledge II, 6701 Rockledge Drive, Bethesda, MD 20892, which was published in the Federal Register on January 22, 2021, V86, Page 6660.

The meeting time changed from 8:00 a.m. to 9:30 a.m. The meeting location remains the same. The meeting is closed to the public.

Dated: January 27, 2021.
Ronald J. Livingston, Jr.,
Program Analyst, Office of Federal Advisory Committee Policy.

[FR Doc. 2021-02301 Filed 2-3-21; 8:45 am]

BILLING CODE 4140-01-P